DEPARTMENT OF THE TREASURY

Submission for OMB Review; Comment Request

January 16, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 26, 2009 to be assured of consideration.

Alcohol and Tobacco Tax and Trade Bureau (TTB)

OMB Number: 1513-0026.

Type of Review: Revision.

Form: TTB F 5620.7.

Title: Claim for Drawback of Tax on Tobacco Products, Cigarette Papers, and Cigarette Tubes.

Description: TTB F 5620.7 documents taxpaid tobacco products, cigarette papers, and cigarette tubes that were exported to a foreign country, Puerto Rico, or Virgin Islands. This form is used by taxpayers to claim drawback for tax paid on exported products.

Respondents: Businesses or other for-profits.

Estimated Total Burden Hours: 144 hours.

OMB Number: 1513-0042.

Type of Review: Revision.

Form: TTB F 5110.30.

Title: Drawback on Distilled Spirits Exported.

Description: TTB F 5110.30 is used by persons who export distilled spirits and wish to claim a drawback of taxes already paid in the United States (U.S.). The form describes the claimant, spirits for tax purposes, amount of tax to be refunded, and a certification by the U.S. Government agent attesting to exportation.

Respondents: Businesses or other for-profits.

Estimated Total Burden Hours: 10,000 hours.

OMB Number: 1513-0035.

Type of Review: Extension.

Form: TTB F 5220.3.

Title: Inventory—Export Warehouse Proprietor.

Description: TTB F 5220.3 is used by export warehouse proprietors to record inventories that are required by law and regulations.

Respondents: Businesses or other for-profits.

Estimated Total Burden Hours: 50 hours.

OMB Number: 1513-0020.

Type of Review: Revision.

Form: TTB F 5100.31.

Title: Application for and Certification/Exemption of Label/Bottle Approval.

Description: The Federal Alcohol Administration Act requires the labeling of alcohol beverages and designates the Treasury Department to oversee compliance with regulations. This form is completed by the regulated industry members and submitted to TTB as an application to label their products. TTB oversees label applications to prevent consumer deception and to deter falsification of unfair advertising practices on alcohol beverages.

Respondents: Businesses or other for-profits.

Estimated Total Burden Hours: 67,265 hours.

OMB Number: 1513-0002.

Type of Review: Extension.

Form: TTB F 5000.9.

Title: Personnel Questionnaire—Alcohol and Tobacco Products

Description: The information listed on TTB F 5000.9, Personnel Questionnaire—Alcohol and Tobacco Products, enables TTB to determine whether or not an applicant for an alcohol or tobacco permit meets the minimum qualifications. The form identifies the individual, residence, business background, financial sources for the business and criminal record.

Respondents: Businesses or other for-profits.

Estimated Total Burden Hours: 10,000 hours.

Clearance Officer: Frank Foote (202) 927-9347, Alcohol and Tobacco Tax and Trade Bureau, Room 200 East, 1310 G. Street, NW., Washington, DC 20005.

OMB Reviewer: Alexander T. Hunt (202) 395-7316, Office of Management and Budget, Room 10235, New Executive Office Building, Washington, DC 20503.

Celina Elphage,
Treasury PRA Clearance Officer.

[FR Doc. E9-1632 Filed 1-26-09; 8:45 am]

BILLING CODE 4810-31-P